DEPARTMENT OF TRANSPORTATION

Federal Aviation Administration

14 CFR Part 39

[Docket No. FAA-2007-27014; Directorate Identifier 2006-NM-253-AD; Amendment 39-15041; AD 2007-09-09]

RIN 2120-AA64

Airworthiness Directives; Airbus Model A330 Airplanes and Model A340-200 and -300 Series Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as un-damped extension of the main landing gear (MLG), potentially leading to loss of side stay integrity and then MLG collapse. We are issuing this AD to require actions to correct the unsafe condition on these products.

DATES: This AD becomes effective June 5, 2007.

The Director of the Federal Register approved the incorporation by reference of certain publications listed in this AD as of June 5, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on January 26, 2007 (72 FR 3759). That NPRM proposed to require replacement of the retraction link assembly. The MCAI states that during full-scale fatigue tests, the retraction link failed on the latest growth production standard MLG (main landing gear) prior to its expected life limit. Investigations confirm that the root cause of this premature fracture is due to high lug stress. The retraction link is included in the ALS (Airworthiness Limitation section) Part 1—Safe Life Airworthiness Limitation Item—and is currently limited to 35,200 flight cycles (FC). Its fracture causes un-damped extension of the MLG, potentially leading to loss of side stay integrity and then MLG collapse, which constitutes an unsafe condition. The aim of the MCAI is to mandate the reduced retraction link life limit and replacement of any retraction link that has exceeded this new limit.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

We estimate that this AD will affect 28 products of U.S. registry. We also estimate that it will take about 10 work-hours per product to comply with this AD. The average labor rate is $80 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $22,400, or $800 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-09-09 Airbus: Amendment 39-15041. Docket No. FAA-2007-27014; Directorate Identifier 2006-NM-253-AD.

Effective Date

(a) This airworthiness directive (AD) becomes effective June 5, 2007.

Affected ADs

(b) None.

Applicability

(c) This AD applies to Airbus Model A330 airplanes, and Model A340-200 and -300 series airplanes, certificated in any category; all serial numbers fitted with MLG (main landing gear) retraction link Part Number (PN) 201489311 (LH (left-hand) side) or PN 201489312 (RH (right-hand) side).

Reason

(d) The MCAI states that during full-scale fatigue tests, the retraction link failed on the latest growth production standard MLG (main landing gear) prior to its expected life limit. Investigations confirm that the root cause of this premature fracture is due to high lug stress. The retraction link is included in the ALS (Airworthiness Limitation section) Part 1—Safe Life Airworthiness Limitation Item—and currently limited to 35,200 flight cycles (FC). Its fracture causes un-damped extension of the MLG, potentially leading to loss of side stay integrity and then MLG collapse, which constitutes an unsafe condition. The aim of the MCAI is to mandate the reduced retraction link life limit and replacement of any retraction link that has exceeded this new limit.

Actions and Compliance

(e) Unless already done, do the following actions.

(1) Prior to the accumulation of 8,300 total landings on the retraction link assembly or within 39 days after the effective date of this AD, whichever occurs later, replace the retraction link assembly in accordance with the instructions defined in Airbus All Operators Telex A330-32A3208, dated October 18, 2006; or Airbus All Operators Telex A340-32A4252, dated October 18, 2006; as applicable.

(2) Within 39 days after the effective date of this AD, report to Airbus the life accumulation information of each retraction link assembly affected by this AD in accordance with Airbus All Operators Telex A330-32A3208, dated October 18, 2006; or Airbus All Operators Telex A340-32A4252, dated October 18, 2006; as applicable.

Note 1: This reduced life limit will be incorporated within the next revision of the Airbus A330/A340 ALS Part 1.

Other FAA AD Provisions

(f) The following provisions also apply to this AD:

(1) Alternative Methods of Compliance (AMOCs): The Manager, International Branch, ANM-116, Transport Airplane Directorate, FAA, ATTN: Tim Backman, Aerospace Engineer, 1601 Lind Avenue, SW., Renton, Washington 98057-3356, has the authority to approve AMOCs for this AD, if requested using the procedures found in 14 CFR 39.19. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI European Aviation Safety Agency Emergency Airworthiness Directive 2006-0324-E, dated October 20, 2006; and Airbus All Operators Telex A330-32A3208, dated October 18, 2006; and Airbus All Operators Telex A340-32A4252, dated October 18, 2006, for related information.

Material Incorporated by Reference

(h) You must use Airbus All Operators Telex A330-32A3208, dated October 18, 2006; or Airbus All Operators Telex A340-32A4252, dated October 18, 2006; as applicable, to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on April 23, 2007.
Stephen P. Boyd,
Acting Manager, Transport Airplane Directorate, Aircraft Certification Service.

[FR Doc. E7-8170 Filed 4-30-07; 8:45 am]

BILLING CODE 4910-13-P